DEPARTMENT OF HEALTH AND HUMAN SERVICES

Centers for Disease Control and Prevention

Board of Scientific Counselors, National Center for Environmental Health/Agency for Toxic Substances and Disease Registry (BSC, NCEH/ATSDR); Cancellation of Meeting

Notice is hereby given of a change in the meeting of the Board of Scientific Counselors, National Center for Environmental Health/Agency for Toxic Substances and Disease Registry (BSC, NCEH/ATSDR), September 13, 2017 8:30 a.m.-4:30 p.m., EST; and September 14, 2017 8:30 a.m.-11:30 a.m., EST, which was published in the Federal Register on July 26, 2017, at 83 FR 34674.

This meeting is being canceled in its entirety and this notice is being published on less than 15 days prior to the meeting date due to Hurricane Irma.

For further information contact Amanda Malasky, BS, ORISE Fellow, CDC, 4770 Buford Highway, Atlanta, Georgia 30341-3717, telephone 770-488-7699; yoo0@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-19530 Filed 9-11-17; 4:15 pm]

BILLING CODE 4163-18-P